DEPARTMENT OF THE INTERIOR

Minerals Management Service

Announcement of Posting of Invitation for Bids on Crude Oil From Federal Leases and State of Wyoming Properties in Wyoming

AGENCY: Minerals Management Service, Interior.

ACTION: Notice of Invitation for Bids on Federal and State of Wyoming crude oil in the State of Wyoming.

SUMMARY: The Minerals Management Service (MMS), in cooperation with the State of Wyoming (State), will post on MMS's Internet Home Page and make available in hard copy a public competitive offering of approximately 4,900 barrels per day (bpd) of crude oil, to be taken as royalty-in-kind (RIK) from a combination of Federal and State properties in Wyoming's Bighorn and Powder River Basins through an Invitation For Bids (IFB), Number 31053.

DATES: The IFB will be posted on MMS's Internet Home Page on or about February 1, 2000. Bids will be due to MMS and the State, at the posted receipt location for both, on or about February 21, 2000. MMS and the State will notify successful bidders on or about February 25, 2000. The Federal Government and the State will begin actual taking of awarded royalty oil volumes for delivery to successful bidders for a 6-month period beginning April 1, 2000.

ADDRESSES: The IFB will be posted on MMS's Home page at http://www.mms.gov under the icon “What's New.” The IFB may also be obtained by contacting Ms. Betty Estey at the address in the FURTHER INFORMATION section. Bids should be submitted to the address provided in the IFB.

FOR FURTHER INFORMATION CONTACT: For additional information concerning the IFB document, terms, and process for Federal leases, contact Ms. Betty Estey, Minerals Management Service, MS 2510, 381 Elden Street, Herndon, VA 20170-4817; telephone number (703) 787-1352; fax (703) 787-1009; e-mail Betty.Estey@mms.gov. For additional information concerning the IFB document, terms, and process for State of Wyoming properties, contact Mr. Harold Kemp, Office of State Lands and Investments, Herschler Building, 3rd Floor West, 122 West 25th Street, Cheyenne, WY 82002-0600; telephone number (307) 777-6643; Fax: (307) 777-5400; Email: hkemp@missc.state.wy.us.

SUPPLEMENTARY INFORMATION: The offering in this IFB continues the ongoing RIK program in Wyoming. The State and MMS believe that taking oil royalties as a share of production (RIK) from the properties offered in the IFB is a viable alternative to the agencies' usual practice of collecting oil royalties as a share of the value received by the lessee for sale of the production. Both agencies will continue to monitor the effectiveness of the RIK approach to taking crude oil royalties in Wyoming.

This sale involves approximately 4,900 bpd of crude oil from 85 Federal and State properties located in Wyoming's Bighorn and Powder River Basins. The volume represents an increase of about 1,650 bpd compared to the most recent IFB, No. 31010, which offered 3,250 bpd of crude oil for delivery to purchasers for production months October 1999 through March 2000. Most production is pipeline-connected. In the few instances where there is also some trucked production on a property, Exhibit A to the IFB will detail those properties.

Purchasers may bid on specific pipeline subgroups and/or on the entire packages of Wyoming sweet crude oil, Wyoming general sour crude oil, or Wyoming asphaltic sour crude oil. Bids will be due as specified in the IFB on or about February 21, 2000 and successful bidders will be notified on or about February 25, 2000. MMS is considering allowing bidders to self-certify their current debt ratio for the purpose of pre-qualifying to bid without need for a letter of credit. Details will be available in the IFB.

The following are some of the additional details regarding the offerings that will be posted in the IFB on or about February 1, 2000:

• List of specific properties;

• For each property—tract allocations, royalty rate(s), average daily royalty volume, quality, current transporter, and operator;

• Bid basis;

• Reporting requirements;

• Terms and conditions; and

• Contract format.

The internet posting and availability of the IFB in hard copy are being announced in oil and gas trade journals as well as in this Federal Register notice.

Dated: January 27, 2000.
Walter D. Cruickshank,
Associate Director for Policy and Management Improvement.

[FR Doc. 00-2132 Filed 1-31-00; 8:45 am]

BILLING CODE 4310-MR-P